DEPARTMENT OF HOUSING AND URBAN DEVELOPMENT

[Docket No. FR-4630-C-35]

Announcement of Funding Awards; Indian Housing Drug Elimination Program; Fiscal Year 2001; Correction

AGENCY: Office of Native American Programs, HUD.

ACTION: Announcement of funding awards for fiscal year 2001; Correction.

SUMMARY: On October 19, 2001 (66 FR 53242), the Department published a notice that announced the funding awards for Fiscal Year (FY) 2001 funding for its Indian Housing Drug Elimination Program. This document makes a correction to the list of funded applicants.

FOR FURTHER INFORMATION CONTACT: Please contact the office or individual identified in the notice published in the Federal Register on October 19, 2001 for further information.

SUPPLEMENTARY INFORMATION: On October 19, 2001 (66 FR 53242), the Department published a notice that announced the funding awards for Fiscal Year (FY) 2001 funding for its Indian Housing Drug Elimination Program. In Appendix A, Awarded Applicants, HUD incorrectly stated that the Housing Authority of the Cherokee Nation received a grant award. Through this document, HUD corrects the successful applicant's name.

Accordingly, FR Doc. 01-26333, Announcement of Funding Awards for the Indian Housing Drug Elimination Program for Fiscal Year 2001, published in the Federal Register on October 19, 2001 at 66 FR 53242, is corrected as follows:

• On page 53244, Appendix A.—Awarded Applicants FY 2001 Indian Housing Drug Elimination Program, is corrected to delete the Housing Authority of the Cherokee Nation from the list of awarded applicants, and to revise the Applicant name to read as follows: Cherokee Nation.

Dated: December 3, 2001.
Michael Liu,
Assistant Secretary for Public and Indian Housing.

[FR Doc. 01-30309 Filed 12-6-01; 8:45 am]

BILLING CODE 4210-33-P